FEDERAL COMMUNICATIONS COMMISSION

47 CFR Part 73

[DA 06-1229; MB Docket No. 05-304; RM-11230]

Radio Broadcasting Services; Garwood, TX

AGENCY: Federal Communications Commission.

ACTION: Final rule.

SUMMARY: The Audio Division, at the request of Charles Crawford, allots Channel 247A at Garwood, Texas, as the community's first local FM service. Channel 247A can be allotted to Garwood, Texas, in compliance with the Commission's minimum distance separation requirements with a site restriction of 15.0 km (9.3 miles) northwest of Garwood. The coordinates for Channel 247A at Garwood, Texas, are 29-33-29 North Latitude and 96-29-12 West Longitude. The allotment is subject to the final outcome of MM Docket No. 00-148, in which proposals conflicting with this allotment were dismissed. See SUPPLEMENTARY INFORMATION infra.

DATES: Effective July 24, 2006.

FOR FURTHER INFORMATION CONTACT: Deborah Dupont, Media Bureau, (202) 418-7072.

SUPPLEMENTARY INFORMATION: This is a synopsis of the Commission's Report and Order, MB Docket No. 05-304, adopted June 7, 2006, and released June 9, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Garwood, Channel 247A.

Federal Communications Commission.
John A. Karousos,
Assistant Chief, Audio Division, Media Bureau.

[FR Doc. 06-5850 Filed 6-27-06; 8:45 am]

BILLING CODE 6712-01-P